DEPARTMENT OF THE INTERIOR

Bureau of Land Management

[CO-174-02-1610-DO-083A]

Notice of intent to Prepare a Resource Management Plan (RMP)

AGENCY: Bureau of Land Management, San Juan Public Lands Center, Canyons of the Ancients National Monument, Dolores, Colorado, Interior.

ACTION: Notice of Intent to prepare a Resource Management Plan (RMP) for the Canyons of the Ancients National Monument, designated June 9, 2000. This action will require a single Environmental Impact Statement (EIS). These lands are located in Montezuma and Dolores Counties, Colorado.

SUMMARY: This document provides notice that the Bureau of Land Management (BLM) intends to prepare an RMP with an associated EIS for the Canyons of the Ancients National Monument. This planning activity encompasses approximately 164,000 acres of public land. The plan will fulfill the needs and obligations set forth by the National Environmental Policy Act (NEPA), the Federal Land Policy and Management Act (FLPMA), the monument proclamation, and BLM management policies. The BLM will work collaboratively with interested parties to identify the management decisions that are best suited to local, regional, and national needs and concerns. The public scoping process will identify planning issues and develop planning criteria, including an evaluation of the existing RMP in the context of the needs and interests of the public and protection of the objects of historic and scientific interest specified in the proclamation.

DATES: The publication of this notice initiates the public scoping comment process. Formal scoping will last a minimum of 60 days. Comments on issues and planning criteria can be submitted in writing to the address listed below. All public meetings will be announced through the local news media, newsletters, and the BLM web site (www.co.blm.gov/canm/index.html) at least 15 days prior to the event.

The minutes and list of attendees for each meeting will be available to the public and open for 30 days to any participant who wishes to clarify the views they expressed.

Public Participation: Public meetings will be held throughout the plan scoping and preparation period. In order to ensure local community participation and input, public meeting locations will be rotated between the towns of Cortez and Durango, Colorado. Early participation is encouraged and will help determine the future management of the Canyons of the Ancients National Monument. In addition to the ongoing public participation process, formal opportunities for public participation will be provided through comment on the alternatives and upon publication of the BLM draft RMP/EIS. In addition, written comments will be accepted throughout the entire planning process.

ADDRESSES: Written comments should be sent to Canyons of the Ancients Planning, Bureau of Land Management, Anasazi Heritage Center, 27501 Highway 184, Dolores, Colorado 81323; Colorado_CANM@co.blm.gov; Fax 970.882.7035. Documents pertinent to this proposal may be examined at the Anasazi Heritage Center, located 3 miles west of Dolores, Colorado. Comments, including names and street addresses of respondents, will be available for public review at the Anasazi Heritage Center, during regular business hours 9 a.m. to 5 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Gary Thrash, Telephone 970.385.1371, or Marilynn Eastin, Telephone 970.882.4811, or Colorado_CANM@co.blm.gov.

SUPPLEMENTARY INFORMATION: The creation of the Canyons of the Ancients National Monument along with the changing needs and interests of the public necessitates a completion of a new RMP for the monument. This action will require a single EIS with one Record of Decision (ROD). Preliminary issues and management concerns have been identified by BLM personnel, other agencies, individuals and user groups, and by the Southwest Resource Advisory Council in public meetings held prior to monument designation. They represent the BLM's knowledge to date on the existing issues and concerns with current management. The major issue themes that will be addressed in the plan include, but are not limited to: preservation of cultural and natural resources; balancing multiple uses such as recreation, livestock grazing, energy development, traditional and Native American activities; integrating monument management with community, tribal, and other agency needs; visitor services; and access and transportation on the public lands.

After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping phase. An interdisciplinary approach will be used to develop the plan in order to consider the variety of resource issues and concerns identified. Disciplines involved in the planning process will include specialists with expertise in archaeology, paleontology, rangeland management, minerals and geology, outdoor recreation, wilderness, wildlife, lands and realty, hydrology, ecology, fire, geographic information systems, sociology, and economics. Where necessary, outside expertise may be used.

Background Information: On June 9, 2000, the President signed Proclamation 7317, creating the Canyons of the Ancients National Monument. The monument encompasses approximately 164,000 acres of public lands in Montezuma and Dolores Counties, Colorado, borders the State of Utah and the Navajo Reservation to the west, and the Ute Mountain Ute Reservation is located to the south. The National Park Service, Hovenweep National Monument, manages 400 acres inside the boundaries of Canyons of the Ancients National Monument. Mesa Verde National Park is 12 miles east of Canyons of the Ancients National Monument.

The San Juan/San Miguel RMP completed in 1985 encompassed the monument (Anasazi ACEC at that time) and has been amended four times. Two of these amendments affected management within the area now designated as Canyons of the Ancients National Monument: an amendment for Oil and Gas Leasing and Development (1991) and an amendment to implement the Standards for Public Land Health and Guidelines for Livestock Grazing Management (1997).

Information from the existing plan and amendments may be incorporated into this plan.

LouAnn Jacobson,
Canyons of the Ancients National Monument Manager.

[FR Doc. 02-9588 Filed 4-23-02; 8:45 am]

BILLING CODE 4310-32-P